DEPARTMENT OF THE INTERIOR

Bureau of Land Management

[LLORB00000-L10200000.DD0000; HAG 9-0357]

Notice To Solicit Nominations, Steens Mountain Advisory Council

AGENCY: Bureau of Land Management, Interior.

ACTION: Solicitation of nominations.

SUMMARY: The Secretary is requesting nominations for five representatives for the Steens Mountain Advisory Council. The Council will advise the Secretary on planning in the Steens Mountain Cooperative Management and Protection Area through the Bureau of Land Management (BLM).

DATES: Submit nomination packages on or before January 22, 2010.

ADDRESSES: Send completed Advisory Council nominations to BLM Burns District Office, 28910 Highway 20 West, Hines, Oregon 97738-9424. Nomination forms are also available at the BLM Burns District Office.

FOR FURTHER INFORMATION CONTACT: Christi Courtemanche, Burns District BLM Office (541) 573-4541, or christi_courtemanche@blm.gov.

SUPPLEMENTARY INFORMATION: The Steens Mountain Advisory Council advises the BLM on implementing the Steens Mountain Cooperative Management and Protection Act (CMPA) of 2000, as described in Title 1, Subtitle D, of Public Law 106-399. The Bureau of Land Management is publishing this notice to request the public to submit nominations for membership on the Steens Mountain Advisory Council. Nomination forms may be obtained from the BLM Burns District Office. Nominees must be qualified through education, training, knowledge, or experience to give informed advice regarding an industry, discipline, or interest to be represented. Current Council members may submit an updated nomination application for reappointment. Any individual may nominate himself/herself or others to serve on the Council. All nomination applications should include letters of reference and/or recommendations from the represented interests or organizations, and any other information explaining the nominee's qualifications (e.g., resume, curriculum vitae). Nominations may be made for the following categories of interest:

• A private landowner in the CMPA, appointed from nominees submitted by the county court for Harney County;

• A person interested in fish and recreational fishing in the CMPA, appointed from nominees submitted by the Governor of Oregon;

• A member of the Burns Paiute Tribe, appointed from nominees submitted by the Burns Paiute Tribe;

• A person who is a recognized environmental representative, who shall represent the State as a whole, appointed from nominees submitted by the Governor of Oregon;

• A person who is a recreational permit holder or is a representative of a commercial recreation operation in the CMPA, appointed from nominees submitted jointly by the Oregon State Director of the BLM and the county court for Harney County, Oregon.

The specific category the nominee wishes to represent should be identified in the letter of nomination. The BLM Burns District will collect the nomination forms and letters of reference and distribute them to the officials responsible for submitting nominations (County Court of Harney County, the Governor of Oregon, the Burns Paiute Tribe and the BLM). The BLM will then forward recommended nominations to the Secretary of the Interior, who has responsibility for making the appointments.

Members of the Steens Mountain Advisory Council are appointed for terms of three years. All positions will expire October 2012, except the vacated Burns Paiute Tribe position, which will end October 2010.

The Steens Mountain Advisory Council shall meet only at the call of the Designated Federal Official, but not less than once per year.

(Authority: Title I, Subtitle D of Pub. L. 106-399)

Edward W. Shepard,
State Director Oregon/Washington.

[FR Doc. E9-30519 Filed 12-22-09; 8:45 am]

BILLING CODE 4310-33-P